DEPARTMENT OF ENERGY

Federal Energy Regulatory Commission

[Docket Nos. AD05-5-000 and PL03-1-000]

Transmission Independence and Investment and Pricing Policy for Efficient Operation and Expansion of the Transmission Grid; Notice of Technical Conference

March 21, 2005.

Take notice that on April 22, 2005, the Federal Energy Regulatory Commission will hold a technical conference to examine impediments to investment in electric transmission infrastructure and explore potential solutions—including the formation of new business models as well as appropriate ratemaking policies that would encourage new investment in transmission. The technical conference will be held at the offices of the Commission at 888 First Street, NE., Washington, DC. The technical conference is tentatively scheduled to begin at 9 a.m. and end at approximately 4:30 p.m. (EST). Commissioners are expected to attend and participate.

Among the issues that panelists will be asked to address are:

• Is the transmission grid being expanded and improved in ways that support regional reliability and market needs?

• What are the barriers to needed transmission investment?

• Has the risk profile of transmission investments changed? If so, what are the implications for Commission policy?

• What rate-making policies will encourage investment in electric transmission infrastructure? Are special incentives appropriate to encourage investment in electric transmission infrastructure? Who should, and is most likely to, make those investments?

• Should the formation of transmission-only companies be encouraged? If so, how?

• What new technologies are available to enhance transmission reliability and efficiency?

The technical conference will be open to the public with no registration or fee.

A transcript of the technical conference will be available from Ace Reporting Company (202-347-3700 or 800-336-6646) for a fee. It will be available for the public on the Commission's eLibrary system ten calendar days after the Commission receives the transcript. Additionally, Capitol Connection offers the opportunity for remote listening and viewing of the conference. It is available for a fee, live over the Internet, by phone or via satellite. Persons interested in receiving the broadcast, or who need information on making arrangements should contact David Reininger or Julia Morelli at Capitol Connection (703-993-3100) as soon as possible or visit the Capitol Connection Web site at http://www.capitolconnection.gmu.edu and click on “FERC.”

Commission conferences are accessible under section 508 of the Rehabilitation Act of 1973. For accessibility accommodations, please send an e-mail to accessibility@ferc.gov or call toll-free 866-208-3372 (voice) or 202-208-1659 (TTY), or send a FAX to 202-208-2106 with the required accommodations.

Additional details and the Agenda for this technical conference will be included in a supplemental notice to be issued later. You are encouraged to watch for additional notices.

For additional information please contact Saida Shaalan, 202-502-8278 or Saida.Shaalan@ferc.gov.

Magalie R. Salas,
Secretary.

[FR Doc. E5-1416 Filed 3-30-05; 8:45 am]

BILLING CODE 6717-01-P